DEPARTMENT OF JUSTICE

Drug Enforcement Administration

[Docket No. DEA-1281]

Bulk Manufacturer of Controlled Substances Application: Cayman Chemical Company

AGENCY: Drug Enforcement Administration, Justice.

ACTION: Notice of application.

SUMMARY: Cayman Chemical Company has applied to be registered as a bulk manufacturer of basic class(es) of controlled substance(s). Refer to SUPPLEMENTARY INFORMATION listed below for further drug information.

DATES: Registered bulk manufacturers of the affected basic class(es), and applicants therefore, may submit electronic comments on or objections to the issuance of the proposed registration on or before December 18, 2023. Such persons may also file a written request for a hearing on the application on or before December 18, 2023.

ADDRESSES: The Drug Enforcement Administration requires that all comments be submitted electronically through the Federal eRulemaking Portal, which provides the ability to type short comments directly into the comment field on the web page or attach a file for lengthier comments. Please go to https://www.regulations.gov and follow the online instructions at that site for submitting comments. Upon submission of your comment, you will receive a Comment Tracking Number. Please be aware that submitted comments are not instantaneously available for public view on https://www.regulations.gov. If you have received a Comment Tracking Number, your comment has been successfully submitted and there is no need to resubmit the same comment.

SUPPLEMENTARY INFORMATION: In accordance with 21 CFR 1301.33(a), this is notice that on July 25, 2023, Cayman Chemical Company, 1180 East Ellsworth Road, Ann Arbor, Michigan 48108-2419, applied to be registered as a bulk manufacturer of the following basic class(es) of controlled substance(s):

Controlled substance | Drug code | Schedule
3-Fluoro-N-methylcathinone (3-FMC) | 1233 | I
Cathinone | 1235 | I
Methcathinone | 1237 | I
4-Fluoro-N-methylcathinone (4-FMC) 1238 I N flephedrone; 1-(4-fluorophenyl)-2-(methylamino)propan-1- one) (Positional isomer: 2-FMC) | 1238 | I
Para-Methoxymethamphetamine (PMMA), 1-(4- 1245 I N methoxyphenyl)-N-methylpropan-2-amine | 1245 | I
Pentedrone (α-methylaminovalerophenone) | 1246 | I
Mephedrone (4-Methyl-N-methylcathinone) | 1248 | I
4-Methyl-N-ethylcathinone (4-MEC) | 1249 | I
Naphyrone | 1258 | I
N-Ethylamphetamine | 1475 | I
Methiopropamine (N-methyl-1-(thiophen-2-yl)propan-2-amine) | 1478 | I
N,N-Dimethylamphetamine | 1480 | I
Fenethylline | 1503 | I
Aminorex | 1585 | I
4-Methylaminorex (cis isomer) | 1590 | I
4,4′-Dimethylaminorex (4,4′-DMAR; 4,5-dihydro-4- 1595 I N methyl-5-(4-methylphenyl)-2-oxazolamine; 4-methyl-5- (4-methylphenyl)-4,5-dihydro-1,3-oxazol-2-amine) | 1595 | I
Gamma Hydroxybutyric Acid | 2010 | I
Methaqualone | 2565 | I
Mecloqualone | 2572 | I
Etizolam (4-(2-chlorophenyl)-2-ethyl-9-methyl-6H-thieno[3,2-f][1,2,4]triazolo[4,3-a][1,4]diazepine | 2780 | I
Flualprazolam (8-chloro-6-(2-fluorophenyl)-1-methyl-4Hbenzo[f][1,2,4]triazolo[4,3-a][1,4]diazepine) | 2785 | I
Clonazolam (6-(2-chlorophenyl)-1-methyl-8-nitro-4Hbenzo[f][1,2,4]triazolo[4,3-a][1,4]diazepine | 2786 | I
Flubromazolam (8-bromo-6-(2-fluorophenyl)-1-methyl-4H-benzo[f][1,2,4]triazolo[4,3-a][1,4]diazepine | 2788 | I
Diclazepam (7-chloro-5-(2-chloro-5-(2-chlorophenyl)-1-methyl-1,3-dihydro-2H-benzo[e][1,4]diazepin-2-one | 2789 | I
JWH-250 (1-Pentyl-3-(2-methoxyphenylacetyl) indole) | 6250 | I
SR-18 (Also known as RCS-8) (1-Cyclohexylethyl-3-(2-methoxyphenylacetyl) indole) | 7008 | I
ADB-FUBINACA (N-(1-amino-3,3-dimethyl-1-oxobutan-2-yl)-1-(4-fluorobenzyl)-1H-indazole-3-carboxamide) | 7010 | I
5-Fluoro-UR-144 and XLR11 [1-(5-Fluoro-pentyl)1H-indol-3-yl](2,2,3,3-tetramethylcyclopropyl)methanone | 7011 | I
AB-FUBINACA (N-(1-amino-3-methyl-1-oxobutan-2-yl)-1-(4-fluorobenzyl)-1H-indazole-3-carboxamide) | 7012 | I
FUB-144 (1-(4-fluorobenzyl)-1H-indol-3-yl)(2,2,3,3-tetramethylcyclopropyl)methanone) | 7014 | I
JWH-019 (1-Hexyl-3-(1-naphthoyl)indole) | 7019 | I
MDMB-FUBINACA (Methyl 2-(1-(4-fluorobenzyl)-1H-indazole-3-carboxamido)-3,3-dimethylbutanoate) | 7020 | I
FUB-AMB, MMB- FUBINACA, AMB-FUBINACA (2-(1-(4-fluorobenzyl)-1Hindazole-3-carboxamido)-3-methylbutanoate) | 7021 | I
AB-PINACA (N-(1-amino-3-methyl-1-oxobutan-2-yl)-1-pentyl-1H-indazole-3-carboxamide) | 7023 | I
THJ-2201 ([1-(5-fluoropentyl)-1H-indazol-3-yl](naphthalen-1-yl)methanone) | 7024 | I
5F-AB-PINACA (N-(1-amino-3-methyl-1-oxobutan-2-yl)-1-(5-fluropentyl)-1H-indazole-3-carboximide) | 7025 | I
AB-CHMINACA (N-(1-amino-3-methyl-1-oxobutan-2-yl)-1-(cyclohexylmethyl)-1H-indazole-3-carboxamide) | 7031 | I
MAB-CHMINACA (N-(1-amino-3,3dimethyl-1-oxobutan-2-yl)-1-(cyclohexylmethyl)-1H-indazole-3-carboxamide) | 7032 | I
5F-AMB (Methyl 2-(1-(5-fluoropentyl)-1H-indazole-3-carboxamido)-3-methylbutanoate) | 7033 | I
5F-ADB, 5F-MDMB-PINACA (Methyl 2-(1-(5-fluoropentyl)-1H-indazole-3-carboxamido)-3,3-dimethylbutanoate) | 7034 | I
ADB-PINACA (N-(1-amino-3,3-dimethyl-1-oxobutan-2-yl)-1-pentyl-1H-indazole-3-carboxamide) | 7035 | I
5F-EDMB-PINACA (ethyl 2-(1-(5-fluoropentyl)-1H-indazole-3-carboxamido)-3,3-dimethylbutanoate) | 7036 | I
5F-MDMB-PICA (methyl 2-(1-(5-fluoropentyl)-1H-indole-3-carboxamido)-3,3-dimethylbutanoate) | 7041 | I
MDMB-CHMICA, MMB-CHMINACA (Methyl 2-(1-(cyclohexylmethyl)-1H-indole-3-carboxamido)-3,3-dimethylbutanoate) | 7042 | I
4F-MDMB-BINACA (4F-MDMB-BUTINACA or methyl 2-(1-(4-fluorobutyl)-1H-indazole-3-carboxamido)-3,3-dimethylbutanoate) | 7043 | I
MMB-CHMICA, AMB-CHMICA (methyl 2-(1-(cyclohexylmethyl)-1H-indole-3-carboxamido)-3-methylbutanoate) | 7044 | I
FUB-AKB48, FUB-APINACA, AKB48 N-(4-FLUOROBENZYL) (N-(adamantan-1-yl)-1-(4-fluorobenzyl)-1H-indazole-3-carboximide) | 7047 | I
APINACA and AKB48 (N-(1-Adamantyl)-1-pentyl-1H-indazole-3-carboxamide) | 7048 | I
5F-APINACA, 5F-AKB48 (N-(adamantan-1-yl)-1-(5-fluoropentyl)-1H-indazole-3-carboxamide) | 7049 | I
JWH-081 (1-Pentyl-3-(1-(4-methoxynaphthoyl) indole) | 7081 | I
5F-CUMYL-PINACA, 5GT-25 (1-(5-fluoropentyl)-N-(2-phenylpropan-2-yl)-1H-indazole-3-carboxamide) | 7083 | I
5F-CUMYL-P7AICA (1-(5-fluoropentyl)-N-(2-phenylpropan-2-yl)-1H-pyrrolo[2,3-b]pyridine-3-carboxamide) | 7085 | I
4-CN-CUML-BUTINACA, 4-cyano-CUMYL-BUTINACA, 4-CN-CUMYL BINACA, CUMYL-4CN-BINACA, SGT-78 (1-(4-cyanobutyl)-N-(2-phenylpropan-2-yl)-1H-indazole-3-carboxamide) | 7089 | I
SR-19 (Also known as RCS-4) (1-Pentyl-3-[(4-methoxy)-benzoyl] indole) | 7104 | I
JWH-018 (also known as AM678) (1-Pentyl-3-(1-naphthoyl)indole) | 7118 | I
JWH-122 (1-Pentyl-3-(4-methyl-1-naphthoyl) indole) | 7122 | I
UR-144 (1-Pentyl-1H-indol-3-yl)(2,2,3,3-tetramethylcyclopropyl)methanone | 7144 | I
JWH-073 (1-Butyl-3-(1-naphthoyl)indole) | 7173 | I
JWH-200 (1-[2-(4-Morpholinyl)ethyl]-3-(1-naphthoyl)indole) | 7200 | I
AM2201 (1-(5-Fluoropentyl)-3-(1-naphthoyl) indole) | 7201 | I
JWH-203 (1-Pentyl-3-(2-chlorophenylacetyl) indole) | 7203 | I
NM2201, CBL2201 (Naphthalen-1-yl 1-(5-fluoropentyl)-1H-indole-3-carboxylate | 7221 | I
PB-22 (Quinolin-8-yl 1-pentyl-1H-indole-3-carboxylate) | 7222 | I
5F-PB-22 (Quinolin-8-yl 1-(5-fluoropentyl)-1H-indole-3-carboxylate) | 7225 | I
4-methyl-alpha-ethylaminopentiophenone (4-MEAP) 7245 I N 4-MEAP | 7245 | I
N-ethylhexedrone 7246 I N | 7246 | I
Alpha-ethyltryptamine | 7249 | I
Ibogaine | 7260 | I
2-(ethylamino)-2-(3-methoxyphenyl)cyclohexan-1-one (methoxetamine) | 7286 | I
CP-47,497 (5-(1,1-Dimethylheptyl)-2-[(1R,3S)-3-hydroxycyclohexyl-phenol) | 7297 | I
CP-47,497 C8 Homologue (5-(1,1-Dimethyloctyl)-2-[(1R,3S)3-hydroxycyclohexyl-phenol) | 7298 | I
Lysergic acid diethylamide | 7315 | I
2C-T-7 (2,5-Dimethoxy-4-(n)-propylthiophenethylamine | 7348 | I
Marihuana | 7360 | I
Tetrahydrocannabinols | 7370 | I
Mescaline | 7381 | I
2C-T-2 (2-(4-Ethylthio-2,5-dimethoxyphenyl) ethanamine ) | 7385 | I
3,4,5-Trimethoxyamphetamine | 7390 | I
4-Bromo-2,5-dimethoxyamphetamine | 7391 | I
4-Bromo-2,5-dimethoxyphenethylamine | 7392 | I
4-Methyl-2,5-dimethoxyamphetamine | 7395 | I
2,5-Dimethoxyamphetamine | 7396 | I
JWH-398 (1-Pentyl-3-(4-chloro-1-naphthoyl) indole) | 7398 | I
2,5-Dimethoxy-4-ethylamphetamine | 7399 | I
3,4-Methylenedioxyamphetamine | 7400 | I
5-Methoxy-3,4-methylenedioxyamphetamine | 7401 | I
N-Hydroxy-3,4-methylenedioxyamphetamine | 7402 | I
3,4-Methylenedioxy-N-ethylamphetamine | 7404 | I
3,4-Methylenedioxymethamphetamine | 7405 | I
4-Methoxyamphetamine | 7411 | I
5-Methoxy-N-N-dimethyltryptamine | 7431 | I
Alpha-methyltryptamine | 7432 | I
Bufotenine | 7433 | I
Diethyltryptamine | 7434 | I
Dimethyltryptamine | 7435 | I
Psilocybin | 7437 | I
Psilocyn | 7438 | I
5-Methoxy-N,N-diisopropyltryptamine | 7439 | I
4-chloro-alpha-pyrrolidinovalerophenone (4-chloro-aPV | 7443 | I
4´-methyl-alpha-pyrrolidinohexiophenone (MPHP | 7446 | I
N-Ethyl-1-phenylcyclohexylamine | 7455 | I
1-(1-Phenylcyclohexyl)pyrrolidine | 7458 | I
1-[1-(2-Thienyl)cyclohexyl]piperidine | 7470 | I
1-[1-(2-Thienyl)cyclohexyl]pyrrolidine | 7473 | I
N-Benzylpiperazine | 7493 | I
2C-D (2-(2,5-Dimethoxy-4-methylphenyl) ethanamine) | 7508 | I
2C-E (2-(2,5-Dimethoxy-4-ethylphenyl) ethanamine) | 7509 | I
2C-H 2-(2,5-Dimethoxyphenyl) ethanamine) | 7517 | I
2C-I 2-(4-iodo-2,5-dimethoxyphenyl) ethanamine) | 7518 | I
2C-C 2-(4-Chloro-2,5-dimethoxyphenyl) ethanamine) | 7519 | I
2C-N (2-(2,5-Dimethoxy-4-nitro-phenyl) ethanamine) | 7521 | I
2C-P (2-(2,5-Dimethoxy-4-(n)-propylphenyl) ethanamine) | 7524 | I
2C-T-4 (2-(4-Isopropylthio)-2,5-dimethoxyphenyl) ethanamine) | 7532 | I
MDPV (3,4-Methylenedioxypyrovalerone) | 7535 | I
25B-NBOMe (2-(4-bromo-2,5-dimethoxyphenyl)-N-(2-methoxybenzyl) ethanamine) | 7536 | I
25C-NBOMe (2-(4-chloro-2,5-dimethoxyphenyl)-N-(2-methoxybenzyl) ethanamine) | 7537 | I
25I-NBOMe (2-(4-iodo-2,5-dimethoxyphenyl)-N-(2-methoxybenzyl) ethanamine) | 7538 | I
Methylone (3,4-Methylenedioxy-N-methylcathinone) | 7540 | I
Butylone | 7541 | I
Pentylone | 7542 | I
alpha-pyrrolidinohexanophenone (a-PHP) | 7544 | I
alpha-pyrrolidinopentiophenone (α-PVP) | 7545 | I
alpha-pyrrolidinobutiophenone (α-PBP) | 7546 | I
Ethylone | 7547 | I
alpha-pyrrolidinoheptaphenone (PV8) | 7548 | I
Eutylone | 7549 | I
AM-694 (1-(5-Fluoropentyl)-3-(2-iodobenzoyl) indole) | 7694 | I
Acetyldihydrocodeine | 9051 | I
Benzylmorphine | 9052 | I
Codeine-N-oxide | 9053 | I
Desomorphine | 9055 | I
Etorphine (except HCl) | 9056 | I
Codeine methylbromide | 9070 | I
Brorphine (1-(1-(1-(4-bromophenyl)ethyl)piperidin-4-4l)1,3-dihydro-2H-benzo[d]imidazol-2-one) | 9098 | I
Dihydromorphine | 9145 | I
Difenoxin | 9168 | I
Heroin | 9200 | I
Hydromorphinol | 9301 | I
Morphine-N-oxide | 9307 | I
Normorphine | 9313 | I
Thebacon | 9315 | I
U-47700 (3,4-dichloro-N-[2-(dimethylamino)cyclohexyl]-N-methylbenzamide) | 9547 | I
AH-7921 (3,4-dichloro-N-[(1-dimethylamino)cyclohexylmethyl]benzamide)) | 9551 | I
MT-45 (1-cyclohexyl-4-(1,2-diphenylethyl)piperazine)) | 9560 | I
Clonitazene | 9612 | I
Isotonotazene (N,N-diethyl-2-(2-(4 isopropoxybenzyl)-5-nitro-1H-benzimidazol-1-yl)ethan-1-amine) | 9614 | I
Dipipanone | 9622 | I
Etonitazene | 9624 | I
Ketobemidone | 9628 | I
Trimeperidine | 9646 | I
Tilidine | 9750 | I
Butonitazene (2-(2-(4-butoxybenzyl)-5-nitro-1H-benzimidazol-1-yl)-N,N-diethylethan-1-amine) | 9751 | I
lunitazene (N,N-diethyl-2-(2-(4-fluorobenzyl)-5- nitro1H-benzimidazol-1-yl)ethan-1- amine) | 9756 | I
Metonitazene (N,N-diethyl-2-(2-(4- methoxybenzyl)-5- nitro-1Hbenzimidazol-1-yl)ethan-1-amine | 9757 | I
N-pyrrolidino etonitazene; etonitazepyne (2-(4-ethoxybenzyl)-5-nitro-1-(2- (pyrrolidin-1-yl)ethyl)- 1Hbenzimidazole) | 9758 | I
Protonitazene (N,N-diethyl-2-(5-nitro-2-(4- propoxybenzyl)-1H-benzimidazol-1- yl)ethan-1-amine) | 9759 | I
Metodesnitazene (N,N-diethyl-2-(2-(4- methoxybenzyl)- 1H-benzimidazol-1- yl)ethan-1-amine) | 9764 | I
Etodesnitazene; etazene (2-(2-(4-ethoxybenzyl)- 1Hbenzimidazol-1-yl)-N,N-diethylethan-1- amine) | 9765 | I
Acryl fentanyl (N-(1-phenethylpiperidin-4-yl)-N-phenylacrylamide) | 9811 | I
Para-Fluorofentanyl | 9812 | I
3-Methylfentanyl | 9813 | I
Alpha-methylfentanyl | 9814 | I
Acetyl-alpha-methylfentanyl | 9815 | I
N-(2-fluorophenyl)-N-(1-phenethylpiperidin-4-yl)propionamide | 9816 | I
Para-Methylfentanyl (N-(4-methylphenyl)-N-(1- phenethylpiperidin-4-yl)propionamide; also known as 4- methylfentanyl) | 9817 | I
4'-Methyl acetyl fentanyl (N-(1-(4- methylphenethyl)piperidin-4-yl)-N-phenylacetamide) | 9819 | I
ortho-Methyl methoxyacetyl fentanyl (2-methoxy-N-(2- methylphenyl)-N-(1-phenethylpiperidin-4-yl)acetamide) | 9820 | I
Acetyl Fentanyl (N-(1-phenethylpiperidin-4-yl)-N-phenylacetamide) | 9821 | I
Butyryl Fentanyl | 9822 | I
Para-fluorobutyryl fentanyl | 9823 | I
4-Fluoroisobutyryl fentanyl (N-(4-fluorophenyl)-N-(1-phenethylpiperidin-4-yl)isobutyramide) | 9824 | I
2-methoxy-N-(1-phenethylpiperidin-4-yl)-N-phenylacetamide | 9825 | I
Para-chloroisobutyryl fentanyl | 9826 | I
Isobutyryl fentanyl | 9827 | I
Beta-hydroxyfentanyl | 9830 | I
Beta-hydroxy-3-methylfentanyl | 9831 | I
Alpha-methylthiofentanyl | 9832 | I
3-Methylthiofentanyl | 9833 | I
Furanyl fentanyl (N-(1-phenethylpiperidin-4-yl)-N-phenylfuran-2-carboxamide) | 9834 | I
Thiofentanyl | 9835 | I
Beta-hydroxythiofentanyl | 9836 | I
Para-methoxybutyryl fentanyl | 9837 | I
Ocfentanil | 9838 | I
Thiofuranyl fentanyl (N-(1-phenethylpiperidin-4-yl)-Nphenylthiophene-2-carboxamide; also known as 2- thiofuranyl fentanyl; thiophene fentanyl) | 9839 | I
Valeryl fentanyl | 9840 | I
Phenyl fentanyl (N-(1-phenethylpiperidin-4-yl)-Nphenylbenzamide; also known as benzoyl fentanyl) | 9841 | I
beta′-Phenyl fentanyl (N-(1-phenethylpiperidin-4-yl)-N,3- diphenylpropanamide; also known as β′-phenyl fentanyl; 3-phenylpropanoyl fentanyl) | 9842 | I
N-(1-phenethylpiperidin-4-yl)-N-phenyltetrahydrofuran-2-carboxamide | 9843 | I
Crotonyl fentanyl ((E-N-(1-phenethylpiperidin-4-yl)-N-phenylbut-2-enamide) | 9844 | I
Cyclopropyl Fentanyl | 9845 | I
ortho-Fluorobutyryl fentanyl (N-(2-fluorophenyl)-N-(1- phenethylpiperidin-4-yl)butyramide; also known as 2- fluorobutyryl fentanyl) | 9846 | I
Cyclopentyl fentanyl | 9847 | I
ortho-Methyl acetylfentanyl (N-(2-methylphenyl)-N-(1- phenethylpiperidin-4-yl)acetamide; also known as 2- methyl acetylfentanyl) | 9848 | I
Fentanyl related-compounds as defined in 21 CFR 1308.11(h) | 9850 | I
Fentanyl carbamate (ethyl (1-phenethylpiperidin-4- yl)(phenyl)carbamate) | 9851 | I
ortho-Fluoroacryl fentanyl (N-(2-fluorophenyl)-N-(1- phenethylpiperidin-4-yl)acrylamide) | 9852 | I
ortho-Fluoroisobutyryl fentanyl (N-(2-fluorophenyl)-N-(1- phenethylpiperidin-4-yl)isobutyramide) | 9853 | I
Para-Fluoro furanyl fentanyl (N-(4-fluorophenyl)-N-(1- phenethylpiperidin-4-yl)furan-2-carboxamide) | 9854 | I
2′-Fluoro ortho-fluorofentanyl (N-(1-(2- fluorophenethyl)piperidin-4-yl)-N-(2- fluorophenyl)propionamide; also known as 2′-fluoro 2- fluorofentanyl) | 9855 | I
beta-Methyl fentanyl (N-phenyl-N-(1-(2- phenylpropyl)piperidin-4-yl)propionamide; also known as β-methyl fentanyl) | 9856 | I
Amphetamine | 1100 | II
Methamphetamine | 1105 | II
Lisdexamfetamine | 1205 | II
Phenmetrazine | 1631 | II
Methylphenidate | 1724 | II
Amobarbital | 2125 | II
Pentobarbital | 2270 | II
Secobarbital | 2315 | II
Glutethimide | 2550 | II
1-Phenylcyclohexylamine | 7460 | II
Phencyclidine | 7471 | II
ANPP (4-Anilino-N-phenethyl-4-piperidine) | 8333 | II
Norfentanyl (N-phenyl-N-(piperidin-4-yl) propionamide) | 8366 | II
Phenylacetone | 8501 | II
1-Piperidinocyclohexanecarbonitrile | 8603 | II
Cocaine | 9041 | II
Codeine | 9050 | II
Etorphine HCl | 9059 | II
Dihydrocodeine | 9120 | II
Oxycodone | 9143 | II
Hydromorphone | 9150 | II
Ecgonine | 9180 | II
Ethylmorphine | 9190 | II
Hydrocodone | 9193 | II
Levomethorphan | 9210 | II
Levorphanol | 9220 | II
Isomethadone | 9226 | II
Meperidine | 9230 | II
Meperidine intermediate-B | 9233 | II
Oliceridine (N-[(3-methoxythiophen-2yl)methyl] ({2-[9r)-9-(pyridin-2-yl)-6-oxaspiro[4.5] decan-9-yl] ethyl {time})amine fumarate) | 9245 | II
Methadone | 9250 | II
Dextropropoxyphene, bulk (non-dosage forms) | 9273 | II
Morphine | 9300 | II
Thebaine | 9333 | II
Oxymorphone | 9652 | II
Noroxymorphone | 9668 | II
Thiafentanil | 9729 | II
Alfentanil | 9737 | II
Remifentanil | 9739 | II
Sufentanil | 9740 | II
Carfentanil | 9743 | II
Tapentadol | 9780 | II
Fentanyl | 9801 | II

The company plans to bulk manufacture the listed controlled substances for forensic purposes, to research analytical reference standards and as Active Pharmaceutical Ingredients for Phase 1 trials. In reference to drug codes 7360 (Marihuana), and 7370 (Tetrahydrocannabinols), the company plans to bulk manufacture these drugs as synthetic. No other activities for these drug codes are authorized for this registration.

Claude Redd,
Acting Deputy Assistant Administrator.

[FR Doc. 2023-22954 Filed 10-17-23; 8:45 am]

BILLING CODE P